NEIGHBORHOOD REINVESTMENT CORPORATION

Sunshine Act Meetings

TIME AND DATE: 2:00 p.m., Thursday, December 15, 2022.

PLACE: 1255 Union Street NE, Fifth Floor, Washington, DC 20002.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b (c)(2) and (4) permit closure of the following portion(s) of this meeting:

Executive Session

Agenda

I. CALL TO ORDER

II. Sunshine Act Approval of Executive (Closed) Session

III. Executive Session Report from CEO

IV. Executive Session: Report from CFO

V. Executive Session: General Counsel Report

VI. NeighborWorks Compass Update

VII. Action Item Approval of Minutes

VIII. Discussion Item November 18, 2022 Audit Committee Report

IX. Discussion Item Future of NeighborWorks Training

X. Discussion Item Report from CIO

XI. Discussion Item DC Office Relocation Update

XII. Management Program Background and Updates

XIII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2022-26456 Filed 12-1-22; 11:15 am]

BILLING CODE 7570-02-P